DEPARTMENT OF HEALTH AND HUMAN SERVICES

Centers for Medicare and Medicaid Services

[Document Identifier: CMS-R-137 and CMS-R-257]

Agency Information Collection Activities: Submission for OMB Review; Comment Request

AGENCY: Centers for Medicare and Medicaid Services, HHS.

In compliance with the requirement of section 3506(c)(2)(A) of the Paperwork Reduction Act of 1995, the Centers for Medicare and Medicaid Services (CMS) (formerly known as the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

(1) Type of Information Collection Request: Extension of a currently approved collection; Title of Information Collection: Internal Revenue Service/Social Security Administration / Health Care Financing Administration Data Match and Supporting Regulations in 42 CFR 411.20-411.206; Form No.: CMS-R-137; Use: Employers who are identified through a match of IRS, SSA, and Medicare records will be contacted concerning group health plan coverage of identified individuals to ensure compliance with Medicare Secondary Payer provisions found at 42 U.S.C. 1395y(b). Frequency: Annually; Affected Public: Federal Government, Business or other for profit, Not for profit institutions, Farms, Federal Government and State, Local or Tribal Government; Number of Respondents: 327,947; Total Annual Responses: 327,947; Total Annual Hours Requested: 1,096,466.

(2) Type of Information Collection Request: Extension of a currently approved collection; Title of Information Collection: Medicare + Choice Disenrollment Form to original Medicare; Form No.: CMS-R-257 (OMB# 0938-0741); Use: Section 4001 of the Balanced Budget Act of 1997 amended the Social Security Act to add section 1851; including 1851(c)(1) which required the establishment of a procedure and form to make and change Medicare + Choice elections, which include disenrollment. In addition, BBA of 1997 also required information be provided to beneficiaries to make better informed choices. Certain information is needed from the beneficiary in order to process the disenrollment action as a change of election; Frequency: On occasion; Affected Public: Individuals or Households, Business or other for-profit, federal government, not-for-profit institutions; Number of Respondents: 50,000; Total Annual Responses: 50,000; Total Annual Hours: 3,300.

To obtain copies of the supporting statement and any related forms for the proposed paperwork collections referenced above, access CMS Web site address at http://www.hcfa.gov/regs/prdact95.htm, or e-mail your request, including your address, phone number, OMB number, and CMS document identifier, to Paperwork@hcfa.gov, or call the Reports Clearance Office on (410) 786-1326. Written comments and recommendations for the proposed information collections must be mailed within 30 days of this notice directly to the OMB desk officer:OMB Human Resources and Housing Branch, Attention: Brenda Aguilar, New Executive Office Building, Room 10235, Washington, DC 20503.

Dated: September 19, 2002.
John P. Burke III,
Paperwork Reduction Act Team Leader, CMS Reports Clearance Officer, Office of Strategic Operations and Regulatory Affairs, Division of Regulations Development and Issuances.

[FR Doc. 02-24585 Filed 9-26-02; 8:45 am]

BILLING CODE 4120-03-P